NUCLEAR REGULATORY COMMISSION

[Docket Nos. 50-334 and 50-412; NRC-2010-0049]

FirstEnergy Nuclear Operating Company, FirstEnergy Nuclear Generation Corp., Ohio Edison Company, the Toledo Edison Company, Beaver Valley Power Station, Unit Nos. 1 and 2; Environmental Assessment and Finding of No Significant Impact

The U.S. Nuclear Regulatory Commission (NRC) is considering issuance of an exemption, pursuant to Title 10 of the Code of Federal Regulations (10 CFR) Section 73.5, “Specific exemptions,” from the implementation date for a certain new requirement of 10 CFR Part 73, “Physical protection of plants and materials,” for Renewed Facility Operating License Nos. DPR-66 and NPF-73, issued to FirstEnergy Nuclear Operating Company (licensee), for operation of the Beaver Valley Power Station, Unit Nos. 1 and 2 (BVPS-1 and 2), located in Shippingport, Pennsylvania. In accordance with 10 CFR 51.21, the NRC prepared an environmental assessment documenting its finding. The NRC concluded that the proposed actions will have no significant environmental impact.

Environmental Assessment

Identification of the Proposed Action

The proposed action would exempt BVPS-1 and 2 from the required implementation date of March 31, 2010, for a certain new requirement of 10 CFR part 73. Specifically, BVPS-1 and 2 would be granted an exemption from being in full compliance with a certain new requirement contained in 10 CFR 73.55 by the March 31, 2010, implementation deadline. The licensee has proposed an alternate full compliance implementation date of December 17, 2010, approximately 9 months beyond the date required by 10 CFR part 73. The proposed action, an extension of the schedule for completion of certain actions required by the revised 10 CFR part 73, does not involve any physical changes to the reactor, fuel, plant structures, support structures, water, or land at the BVPS-1 and 2 site.

The proposed action is in accordance with the licensee's application dated November 30, 2009 (Agencywide Document and Management System (ADAMS) Accession No. ML093370152), as supplemented by letter dated December 23, 2009 (ADAMS Accession No. ML093650293).

The Need for the Proposed Action

The proposed action is needed to provide the licensee with additional time to design the necessary modifications, procure equipment and material, and implement upgrades to comply with a specific aspect of 10 CFR 73.55.

Environmental Impacts of the Proposed Action

The NRC has completed its environmental assessment of the proposed exemption. The NRC staff has concluded that the proposed action to extend the implementation deadline would not significantly affect plant safety and would not have a significant adverse effect on the probability of an accident occurring.

The proposed action would not result in an increased radiological hazard beyond those previously analyzed in the environmental assessment and finding of no significant impact made by the Commission in promulgating its revisions to 10 CFR part 73 as discussed in a Federal Register notice dated March 27, 2009 (74 FR 13967). There will be no change to radioactive effluents that affect radiation exposures to plant workers and members of the public. Therefore, no changes or different types of radiological impacts are expected as a result of the proposed exemption.

The proposed action does not result in changes to land use or water use, or result in changes to the quality or quantity of non-radiological effluents. No changes to the National Pollution Discharge Elimination System permit are needed. No effects on the aquatic or terrestrial habitat in the vicinity of the plant, or to threatened, endangered, or protected species under the Endangered Species Act, or impacts to essential fish habitat covered by the Magnuson-Steven's Act are expected. There are no impacts to the air or ambient air quality.

There are no impacts to historical and cultural resources. There would be no impact to socioeconomic resources. Therefore, no changes to or different types of non-radiological environmental impacts are expected as a result of the proposed exemption.

Accordingly, the NRC concludes that there are no significant environmental impacts associated with the proposed action. In addition, in promulgating its revisions to 10 CFR part 73, the Commission prepared an environmental assessment and published a finding of no significant impact [Part 73, Power Reactor Security Requirements, 74 FR 13926, 13967 (March 27, 2009)].

The licensee currently maintains security plans acceptable to the NRC. The new 10 CFR part 73 security measures that would be implemented by March 31, 2010, would continue to provide acceptable onsite physical protection of BVPS-1 and 2. Therefore, the extension of the implementation date of a certain new requirement of 10 CFR part 73, to September 27, 2010, would not have any significant environmental impacts.

The NRC staff's safety evaluation will be provided in the exemption that will be issued as part of the letter to the licensee approving the exemption to the regulation, if granted.

Environmental Impacts of the Alternatives to the Proposed Action

As an alternative to the proposed actions, the NRC staff considered denial of the proposed actions (i.e., the “no-action” alternative). Denial of the exemption request would result in no change in current environmental impacts. If the proposed action was denied, the licensee would have to comply with the March 31, 2010, implementation deadline. The environmental impacts of the proposed exemption and the “no action” alternative are similar.

Alternative Use of Resources

The action does not involve the use of any different resources than those considered in the Final Environmental Statement for BVPS-1, dated July 1973, and for BVPS-2, NUREG-1094, dated September 1985, as supplemented through the “Generic Environmental Impact Statement for License Renewal of Nuclear Plants Regarding Beaver Valley Power Station, Units 1 and 2, Supplement 36, Final Report” (NUREG-1437).

Agencies and Persons Consulted

In accordance with its stated policy, on January 20, 2010, the NRC staff consulted with Larry Ryan of the Pennsylvania Department of Environmental Protection, regarding the environmental impact of the proposed action. The State official had no comments.

Finding of No Significant Impact

On the basis of the environmental assessment, the NRC concludes that the proposed action will not have a significant effect on the quality of the human environment. Accordingly, the NRC has determined not to prepare an environmental impact statement for the proposed action.

For further details with respect to the proposed action, see the licensee's letter dated November 30, 2009, as supplemented by letter dated December 23, 2009. Portions of the submittals contain proprietary and security information and, accordingly, are not available to the public, pursuant to 10 CFR 2.390. The public documents may be examined, and/or copied for a fee, at the NRC's Public Document Room (PDR), located at One White Flint North, Public File Area O-1F21, 11555 Rockville Pike (first floor), Rockville, Maryland 20852. Publicly available records will be accessible electronically from the ADAMS Public Electronic Reading Room on the Internet at the NRC Web site: http://www.nrc.gov/reading-rm/adams.html.

Dated at Rockville, Maryland, this 4th day of February 2010.
For The Nuclear Regulatory Commission.
Nadiyah S. Morgan,
Project Manager, Plant Licensing Branch I-1, Division of Operating Reactor Licensing, Office of Nuclear Reactor Regulation.

[FR Doc. 2010-2975 Filed 2-9-10; 8:45 am]

BILLING CODE 7590-01-P